DEPARTMENT OF COMMERCE

Census Bureau

Agency Information Collection Activities; Submission to the Office of Management and Budget (OMB) for Review and Approval; Comment Request; Annual Survey of School System Finances

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on April 28, 2022 during a 60-day comment period. This notice allows for an additional 30 days for public comments.

Agency: U.S. Census Bureau, Department of Commerce.

Title: Annual Survey of School System Finances.

OMB Control Number: 0607-0700.

Form Number(s): F-33, Supplemental forms: F-33-L1, F-33-L2 and F-33-L3.

Type of Request: Regular submission, Request for a Revision of a Currently Approved Collection.

Number of Respondents: F-33: 51, Supplemental: 3,630.

Average Hours per Response: F-33: 70 hours, 45 minutes, Supplemental: 15 minutes.

Burden Hours: 4,465.

Needs and Uses: The U. S. Census Bureau plans to continue the current Office of Management and Budget clearance for the Annual Survey of School System Finances with revisions. The Annual Survey of School System Finances is the only comprehensive source of pre-kindergarten through 12th grade public elementary-secondary school system finance data collected on a nationwide scale using uniform definitions, concepts, and procedures. The collection covers the revenues, expenditures, debt, and assets of all public elementary-secondary school systems. This data collection has been cosponsored by and coordinated with the National Center for Education Statistics (NCES). The NCES uses this collection to satisfy its need for school finance data.

Fiscal data provided by respondents aid data users in measuring the effectiveness of resource allocation. The products of this data collection make it possible for data users to search a single database to obtain information on such things as per pupil expenditures and the percent of state, local, and federal funding for each school system. Elementary-secondary education related spending is the single largest financial activity of state and local governments. Education finance statistics provided by the Census Bureau allow for analyses of how public elementary-secondary school systems receive their funding and how they are spending their funds.

The Annual Survey of School System Finances was revised for the fiscal year (FY) 2020 collection to include 12 new data items in response to the COVID-19 pandemic. Six revenue data items and six expenditure items were added to the survey to collect financial information from school systems concerning the Coronavirus Aid, Relief, and Economic Security (CARES) Act of 2020. The survey was then revised again for the FY 2021 collection in response to new legislation passed due to the COVID-19 pandemic, including the Coronavirus Response and Relief Supplemental Appropriations Act (CRRSA) and the American Rescue Plan (ARP). Four new revenue items were added to the survey to collect financial data based on these two new legislative acts and two obsolete revenue items added in FY 2020 in response to the COVID-19 pandemic were removed from the survey. Two new expenditure items were also added to expand the scope of financial data collected concerning COVID-19 federal assistance funds.

This proposed revision to the Annual Survey of School System Finances is to further expand the collection of expenditure data for COVID-19 federal assistance funds. The CARES Act of 2020 established several relief funds that would be made available to school systems, including the Elementary and Secondary School Emergency Relief (ESSER) Fund, the Governor's Emergency Education Relief (GEER) Fund, and the Coronavirus Relief Fund (CRF). Subsequent legislation such as the CRRSA and the ARP further funded these sources and established additional funds made available to school systems, including the ARP Act Coronavirus State and Local Fiscal Recovery Funds. In response to these various funds being established and utilized by school systems, 21 new data items will be added to the survey to collect data on expenditures from these funding sources. Three data items collecting data for current expenditures, instructional expenditures, and capital outlay expenditures will be added for seven different sources of funds for a total of 21 new data items.

As a result of these 21 new data items being added to the survey, an increase in the total burden hours and estimated time per response for the primary survey form (F-33) is expected compared to prior survey collections. A slight decrease in the number of supplemental respondents is also expected in future collections due to school system consolidations, mergers, and other factors affecting the composition of school systems in states where supplemental debt and asset data is collected. This will partially offset some of the increase in total burden hours as a result of the 21 new items collected on the survey; however, an overall increase in total burden hours is still expected.

Affected Public: State and local governments.

Frequency: Annually.

Respondent's Obligation: Voluntary.

Legal Authority: Census: Title 13 U.S.C. Sections 8(b), 161, and 182. NCES: Title 20 U.S.C. Sections 9543-44.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0607-0700.

Sheleen Dumas,
Department PRA Clearance Officer, Office of the Chief Information Officer, Commerce Department.

[FR Doc. 2022-15137 Filed 7-14-22; 8:45 am]

BILLING CODE 3510-07-P